SOCIAL SECURITY ADMINISTRATION

[Docket No. SSA-2021-0038]

Privacy Act of 1974; Matching Program

AGENCY: Social Security Administration (SSA).

ACTION: Notice of a new matching program.

SUMMARY: In accordance with the provisions of the Privacy Act, as amended, this notice announces a new matching program with the Department of Defense, Defense Manpower Data Center (DoD/DMDC).

DATES: Submit comments on the proposed matching program on or before November 17, 2021. The matching program will be applicable on November 18, 2021, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2021-0038 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2021-0038 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Andrea Huseth, Division Director, Office of Privacy and Disclosure, Office of the General Counsel, Social Security Administration, G-401 WHR, 6401 Security Boulevard, Baltimore, MD 21235-6401, at telephone: (410) 966-5855, or send an email to Melissa.Feldhan@ssa.gov.

SUPPLEMENTARY INFORMATION: Under this matching program, DoD/DMDC will disclose to SSA data that SSA will use to verify information provided by applicants, beneficiaries, and recipients of Supplemental Security Income (SSI) payments and Special Veterans Benefits (SVB). The SSI and SVB recipient/beneficiary provides information about eligibility and entitlement factors (e.g., income, resources, living arrangements).

Matthew Ramsey,
Executive Director, Office of Privacy and Disclosure, Office of the General Counsel.

Participating Agencies

SSA and DoD/DMDC.

Authority for Conducting the Matching Program

This matching agreement between DoD/DMDC and SSA is executed pursuant to the Privacy Act of 1974, (5 U.S.C. 552a), as amended by the Computer Matching and Privacy Protection Act of 1988, and otherwise; and the Office of Management and Budget Final Guidance interpreting those Acts.

Public Law (Pub. L.) 98-369, Deficit Reduction Act of 1984, requires agencies administering certain federally-assisted benefit programs to use certain information to ensure proper distribution of benefit payments (98 Stat. 494).

Section 1631(e)(1)(B) of the Act (42 U.S.C. 1383(e)(1)(B)) requires verification of Supplemental Security Income eligibility and benefit amounts with independent or collateral sources. This section of the Act provides that the “Commissioner of Social Security shall, as may be necessary, request and utilize information available pursuant to section 6103(l)(7) of the Internal Revenue Code of 1986” for purposes of federally-administered supplementary payments of the type described in section 1616(a) of the Act (including payments pursuant to an agreement entered into under section 212(a) of Pub. L. 93-66).

The legal authority for the disclosure of SSA data under this agreement is section 1106 of the Act (42 U.S.C. 1306), section (b)(3) of the Privacy Act (5 U.S.C. 552a(b)(3)), and the regulations and guidance promulgated under these provisions.

Purpose(s)

This computer matching agreement (agreement) sets forth the terms, conditions, and safeguards under which the Department of Defense (DoD), Defense Manpower Data Center (DMDC) (DoD/DMDC) will disclose to the Social Security Administration (SSA) data that SSA will use to verify information provided by applicants, beneficiaries, and recipients of Supplemental Security Income (SSI) payments and Special Veterans Benefits (SVB). The SSI and SVB recipient/beneficiary provides information about eligibility and entitlement factors (e.g., income, resources, living arrangements). SSA obtains additional information, as necessary, before making any determinations of eligibility, payments, entitlement or benefit amounts or adjustments thereto. Military retirement payments to SSI recipients and SVB beneficiaries include retired members, or their survivors, of the Uniformed Services, i.e., Army; Navy; Air Force; Marine Corps; Coast Guard; and Commissioned Corps of the National Oceanic and Atmospheric Administration. SSA will accomplish this task by computer matching with DoD/DMDC.

Categories of Individuals

The individuals whose information is involved in this matching program are applicants, beneficiaries, and recipients of Supplemental Security Income payments and Special Veterans Benefits.

Categories of Records

SSA will provide electronically to DoD/DMDC the following data elements in the finder file:

• Social Security number

• Name control

IRS will disclose to SSA the following:

• Payee Account Number,

• Payee Name and Mailing Address,

• Payee Taxpayer Identification Number (TIN),

• Payer Name and Address,

• Payer TIN, and

• Income Type and Amount.

System(s) of Records

SSA's SOR is the Supplemental Security Income Record and Special Veterans Benefit (SSR), 60-0103, last fully published at 71 Federal Register (FR) 1830 (January 11, 2006), and amended at 72 FR 69723 (December 10, 2007), 83 FR 31250-51 (July 3, 2018, and at 83 FR 54969 (November 1, 2018).

DoD/DMDC will disclose records from the following SOR: DMDC 01, entitled “Defense Manpower Data Center Data Base,” last published in full at 84 Federal Register (FR) 6383 (February 26, 2019), and amended at 84 FR 8698 (March 11, 2019), and 84 FR 15605 (April 16, 2019).

[FR Doc. 2021-22630 Filed 10-15-21; 8:45 am]

BILLING CODE 4191-02-P